DEPARTMENT OF COMMERCE

International Trade Administration

[A-580-839]

Certain Polyester Staple Fiber From the Republic of Korea: Notice of Final Results of Antidumping Duty Changed Circumstances Review

AGENCY: Enforcement and Compliance, International Trade Administration, Department of Commerce.

SUMMARY: On July 12, 2019, the Department of Commerce (Commerce) initiated, and published the preliminary results of, the changed circumstances review (CCR) of the antidumping duty (AD) order on certain polyester staple fiber (PSF) from the Republic of Korea (Korea). For these final results, Commerce continues to find that Toray Advanced Materials Korea, Inc. (TAK) is the successor-in-interest to Toray Chemical Korea, Inc. (TCK).

DATES: Applicable August 28, 2019.

FOR FURTHER INFORMATION CONTACT: Nicholas Czajkowski, AD/CVD Operations, Office II, Enforcement and Compliance, International Trade Administration, U.S. Department of Commerce, 1401 Constitution Avenue NW, Washington, DC 20230; telephone: (202) 482-1395.

SUPPLEMENTARY INFORMATION:

Background

On May 23, 2019, TAK requested that, pursuant to section 751(b) of the Tariff Act of 1930, as amended (the Act), and 19 CFR 351.216(b), Commerce conduct a CCR of the AD order on PSF from Korea.¹ In its request, TAK argued that it is the successor-in-interest to its wholly-owned subsidiary TCK and, accordingly, Commerce should assign it the cash deposit rate established for TCK.² TAK stated that, in April 2019, TAK merged with TCK and, as a result of the merger, TAK assumed all of TCK's assets, rights, and liabilities.³

¹ See TAK's Letter, “Certain Polyester Staple Fiber from the Republic of Korea: Changed Circumstances Review Request,” May 23, 2019, at 1-2.

² Id.

³ Id. at 2.

On July 12, 2019, Commerce initiated this CCR and concurrently published the notice of preliminary results, determining that TAK is the successor-in-interest to TCK.⁴ In the Initiation and Preliminary Results, we provided all interested parties an opportunity to comment and to request a public hearing regarding our preliminary finding that TAK is the successor-in-interest to TCK.⁵ We received no comments or requests for a public hearing from interested parties within the time period set forth in the Initiation and Preliminary Results.⁶

⁴ See Certain Polyester Staple Fiber from the Republic of Korea: Initiation and Preliminary Results of Antidumping Duty Changed Circumstances Review, 84 FR 33230 (July 12, 2019) (Initiation and Preliminary Results).

⁵ Id., 84 FR at 33232.

⁶ Id.

Scope of the Order

The product covered by the order is certain polyester staple fiber (PSF). PSF is defined as synthetic staple fibers, not carded, combed or otherwise processed for spinning, of polyesters measuring 3.3 decitex (3 denier, inclusive) or more in diameter. This merchandise is cut to lengths varying from one inch (25 mm) to five inches (127 mm). The merchandise subject to these orders may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (HTSUS) at subheading 5503.20.00.25 is specifically excluded from these orders. Also, specifically excluded from these orders are polyester staple fibers of 10 to 18 denier that are cut to lengths of 6 to 8 inches (fibers used in the manufacture of carpeting). In addition, low-melt PSF is excluded from these orders. Low-melt PSF is defined as a bi-component fiber with an outer sheath that melts at a significantly lower temperature than its inner core.

The merchandise subject to these orders is currently classifiable in the HTSUS at subheadings 5503.20.00.45 and 5503.20.00.65.⁷ Although the HTSUS subheadings are provided for convenience and customs purposes, the written description of the merchandise under the orders is dispositive.

⁷ These HTSUS numbers have been revised to reflect changes in the HTSUS numbers at the suffix level.

Final Results of Changed Circumstances Review

For the reasons stated in the Initiation and Preliminary Results, and because we received no comments from interested parties to the contrary, Commerce continues to find that TAK is the successor-in-interest to TCK. As a result of this determination and consistent with established practice, we find that TAK should receive the cash deposit rate assigned to TCK. Consequently, Commerce will instruct U.S. Customs and Border Protection to suspend entries of subject merchandise produced or exported by TAK at TCK's current cash deposit rate of 2.13 percent.⁸ This cash deposit requirement will be effective on the publication date of our final results and shall remain in effect until further notice.

⁸ See Notice of Amended Final Results of Antidumping Duty Administrative Review: Certain Polyester Staple Fiber from Korea, 69 FR 67891, 67891 (November 22, 2004) (providing weighted-average dumping margin for Saehan Industries, Inc. (Saehan). Commerce determined that Woongjin Chemical Co., Ltd. was the successor-in-interest to Saehan. See Notice of Final Results of Changed Circumstances Antidumping Duty Review: Certain Polyester Staple Fiber from the Republic of Korea, 73 FR 49168 (August 20, 2008). Commerce determined that TCK was the successor-in-interest to Woongjin Chemical Co., Ltd. See Certain Polyester Staple Fiber from the Republic of Korea: Final Results of Changed Circumstances Review, 79 FR 76301 (December 22, 2014).

Notification to Interested Parties

We are issuing this determination and publishing these final results and notice in accordance with sections 751(b)(1) and 777(i)(1) and (2) of the Act and 19 CFR 351.216(e), 351.221(b), and 351.221(c)(3).

Dated: August 22, 2019.
Christian Marsh,
Deputy Assistant Secretary for Enforcement and Compliance.

[FR Doc. 2019-18559 Filed 8-27-19; 8:45 am]

BILLING CODE 3510-DS-P